DEPARTMENT OF ENERGY

Federal Energy Regulatory Commission

[Project No. 199-205]

South Carolina Public Service Authority; Notice of Scoping Meetings and Site Visit and Technical Meeting and Soliciting Scoping Comments

April 20, 2005.

Take notice that the following hydroelectric applications have been filed with the Commission and are available for public inspection:

a. Type of Application: New Major License.

b. Project No.: 199-205

c. Date filed: March 15, 2004.

d. Applicant: South Carolina Public Service Authority.

e. Name of Project: Santee Cooper.

f. Location: On the Santee and Cooper Rivers, in Berkeley, Calhoun, Clarendon, Orangeburg, and Sumter Counties, South Carolina.

g. Filed Pursuant to: Federal Power Act, 16 U.S.C. 791(a)-825(r).

h. Applicant Contact: John Dulude, South Carolina Public Service Authority, One Riverwood Plaza, P.O. Box 2946101, Moncks Corner, SC 29461-2901, (843) 761.4046.

i. FERC Contact: Ronald McKitrick, ronald.mckitrick@ferc.gov, (770) 452.3778.

j. Deadline for filing scoping comments: June 20, 2005.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing project structures consist of the Santee Dam (also known as the Wilson Dam) on the Santee River, the Pinopolis Dam on the Cooper River, the Diversion Canal, the Santee Spillway Hydroelectric Station, and the Jefferies (formerly known as Pinopolis) Hydroelectric Station. The project includes an estimated 179,990 acres of land and water resources. The project has two major impoundments—Lake Marion and Lake Moultrie—that are connected by the Diversion Canal. Lake Marion is up to 40 miles long and has a normal pool elevation of 75.0 feet. Lake Moultrie is about 10 miles long and has a normal pool elevation typically from 0.2 to 1.0 foot lower than Lake Marion. The two impoundments have a combined area of approximately 160,000 acres. The combined usable storage capacity of the two impoundments is approximately 529,000 acre-feet. The total installed capacity is 134.52 MW. The SCPSA operates the Santee Spillway and Jefferies Stations and the U.S. Army Corps of Engineers' (Corps) St. Stephen Station, which is not a part of the Commission-licensed Santee Cooper Project.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process

The Commission intends to prepare an Environmental assessment (EA) on the project in accordance with the National Environmental Policy Act. The EA will consider both site-specific and cumulative environmental impacts and reasonable alternatives to the proposed action.

Scoping Meetings

FERC staff will conduct one agency scoping meeting and two public meetings. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Thursday May 19, 2005.

Time: 10 a.m.

Place: Holiday Inn Express.

Address: 505 R.C. Dennis Blvd., Moncks Corner, South Carolina.

Public Scoping Meetings

Date: Tuesday, May 17, 2005.

Time: 7:30 p.m.

Place: Holiday Inn Express.

Address: 505 R.C. Dennis Blvd., Moncks Corner, South Carolina.

Date: Wednesday, May 18, 2005.

Time: 7 p.m.

Place: Clarendon County Hospital Center, Cypress Center for Health and Wellness.

Address: 40 Hospital Street, Manning, South Carolina.

Copies of the Scoping Document (SD1) outlining the subject areas to be addressed in the EIS were distributed to the parties on the Commission's mailing list. Copies of the SD1 will be available at the scoping meeting or may be viewed on the Web at http://www.ferc.gov using the “eLibrary” link (see item m above).

Site Visit

The Applicant and FERC staff will conduct a project site visit beginning at 9 a.m. on May 17 and 18, 2005. All interested individuals, organizations, and agencies are invited to attend. All participants should meet at the Jefferies Hydroelectric Station at 9 a.m. on May 17, 2005 and at Wilson Landing near the Santee Dam spillway at 9 a.m. on May 18, 2005. All participants are responsible for their own transportation to the site. Anyone with questions about the site visit should contact Mr. John Dulude of SCPSA at (843) 761-4046.

Technical Conference

Commission staff will hold a technical conference to discuss the issue of fish passage, entrainment, and outmigration survival related to operation of the Santee Cooper Project. This conference will be held at the Holiday Inn Express in Moncks Corner, South Carolina at 2 p.m. on May 19, 2005. All interested parties are invited to attend. The meeting will not be recorded by a stenographer, but the Commission staff will prepare notes on the meeting for inclusion in the public record.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E5-2011 Filed 4-27-05; 8:45 am]

BILLING CODE 6717-01-P